DEPARTMENT OF THE TREASURY

Office of Thrift Supervision

[AC-05: OTS Nos. 17873, H4059, H4060, and H4317]

Citizens Community Federal, Citizens Community MHC, Citizens Community Bancorp, and Citizens Community Bancorp, Inc., Eau Claire, WI; Approval of Conversion Application

Notice is hereby given that on September 11, 2006, the Assistant Managing Director, Examinations and Supervision—Operations, Office of Thrift Supervision (OTS), or her designee, acting pursuant to delegated authority, approved the application of Citizens Community MHC and Citizens Community Federal, Eau Claire, Wisconsin, to convert to the stock form of organization. Copies of the application are available for inspection by appointment (phone number: 202-906-5922 or e-mail. Public.Info@OTS.Treas.gov) at the Public Reading Room, 1700 G Street, NW., Washington, DC 20552, and the OTS Midwest Regional Office, 225 East John Carpenter Freeway, Suite 500, Irving, TX 75062-2326.

Dated: October 11, 2006.
By the Office of Thrift Supervision.
Sandra E. Evans,
Legal Information Assistant.

[FR Doc. 06-8710 Filed 10-16-06; 8:45 am]

BILLING CODE 6720-01-M